OFFICE OF MANAGEMENT AND BUDGET

Maritime Regulatory Reform

AGENCY: Office of Information and Regulatory Affairs, Office of Management and Budget.

ACTION: Extension of comment period.

SUMMARY: The Office of Information and Regulatory Affairs (OIRA) within the Office of Management and Budget is extending the comment period for its Maritime Deregulatory request for information (RFI), by 45 days until August 30, 2018. Please note, OIRA intends to make all submissions publicly available on www.regulations.gov.

DATES: Written comments should be submitted by August 30, 2018. Late comments will be considered to the extent possible.

ADDRESSES: Interested persons are encouraged to submit comments, identified by “Maritime Regulatory Reform RFI,” by any of the following methods: Federal Rulemaking Portal: http://www.regulations.gov. Follow the instructions for submitting comments. Email: OMB.DeregulatoryRFI@OMB.eop.gov. Include “Maritime Regulatory Reform RFI” in the subject line of the message.

SUPPLEMENTARY INFORMATION: This extension of comment period pertains to the RFI published in 83 FR 22993 pertaining to maritime regulatory reform, docket number 2018-10539. For more information, please see https://www.regulations.gov/docket?D=OMB-2018-0002.

Neomi Rao,
Administrator, Office of Information and Regulatory Affairs.

[FR Doc. 2018-14958 Filed 7-12-18; 8:45 am]

BILLING CODE 3110-01-P